DEPARTMENT OF HEALTH AND HUMAN SERVICES

Agency for Healthcare Research and Quality

Notice of Correction—Assessing the Impact of the Patient Safety Improvement Corps (PSIC) Training Program

With this correction notice, the Agency for Healthcare Research and Quality (AHRQ) informs the public of changes made to a notice on “Assessing the Impact of the Patient Safety Improvement Corps (PSIC) Training Program” published on June 24, 2008, Vol. 73, No. 122, pages 35692-35693 under section SUPPLEMENTARY INFORMATION.

The revised subsections below on “Estimated Annual Respondent Burden, Exhibit 1 and 2” replace same subsections published on June 24, 2008.

Estimated Annual Respondent Burden

Exhibit I shows the estimated annualized burden hours for the respondent's time to participate in the study. Qualitative interviews will be conducted with a maximum of 54 individuals and will last about one hour. The training participant questionnaire is estimated to require 30 minutes to complete and the organizational leader questionnaire is estimated to require 15 minutes to complete, resulting in a total burden of 223 hours.

Exhibit 1.—Estimated Annualized Burden Hours
Form name | Number of respondents | Number of responses per respondent | Hour per response | Total burden hours
Qualitative interview | 54 | 1 | 1 | 54
Training participant questionnaire | 300 | 1 | 30/60 | 150
Organizational leader questionnaire | 75 | 1 | 15/60 | 19
Total | 429 | NA | NA | 223

Exhibit 2 shows the estimated annualized cost burden based on the respondents' time to participate in the study The total cost burden is estimated to be $7,453.06.

Exhibit 2.—Estimated Annualized Cost Burden
Form name | Number of respondents | Total burden hours | Average hourly wage rate * | Total cost burden
Qualitative interview | 54 | 54 | $35.19 | $1,900.26
Training participant questionnaire | 300 | 150 | 32.18 | 4,827.00
Organizational leader questionnaire | 75 | 19 | 38.20 | 725.80
Total | 429 | 223 | NA | 7,453.06
* Based upon the mean of the average wages for health professionals for the training participant questionnaire and for executives, administrators, and managers for the organizational leader questionnaire presented in the National Compensation Survey: Occupational Wages in the United States, June 2005, U.S. Department of Labor, Bureau of Labor Statistics.

Dated: July 3, 2008.
Carolyn M. Clancy,
Director.

[FR Doc. E8-16062 Filed 7-16-08; 8:45 am]

BILLING CODE 4160-90-M